DEPARTMENT OF HEALTH AND HUMAN SERVICES

Centers for Medicare & Medicaid Services

[CMS-1508-N]

Medicare Program; Town Hall Meeting on End-Stage Renal Disease Prospective Payment System

AGENCY: Centers for Medicare & Medicaid Services (CMS), HHS.

ACTION: Notice.

SUMMARY: This notice announces the date, time, and location of the town hall meeting to discuss the Medicare End-Stage Renal Disease (ESRD) Prospective Payment System (PPS) proposed rule. This meeting provides a forum for interested parties including, but not limited to beneficiaries, caregivers, providers, and other industry representatives to make oral statements in response to the ESRD PPS proposed rule. The meeting is open to the public, but registration is required and attendance is limited to space available.

DATES: Meeting Date: The town hall meeting will be held on Wednesday, October 23, 2009, from 9 a.m. to 12 p.m., eastern daylight time (e.d.t.).

Deadline for Registrations: Registrations must be received by October 2, 2009 by 5 p.m., e.d.t.

Deadline for Special Accommodations: Special accommodations must be made by October 5, 2009. Special arrangements for medical equipment or medical devices must be made by October 9, 2009.

ADDRESSES: Meeting Location: The meeting will be held in the main auditorium at the Centers for Medicare and Medicaid Services, 7500 Security Boulevard, Baltimore, MD 21244.

Meeting Registration: All individuals interested in attending the meeting must register at the following Web site: http://www.cms.hhs.gov/apps/events/upcomingevents.asp?strOrderBy=1&type=3. Scroll down to the town hall meeting for the ESRD PPS Proposed Rule and select the register button to complete the required registration.

Individuals interested in making oral presentations at the meeting must also register as attendees and register at the following Web site: http://www.cms.hhs.gov/esrdpayment/20_town_hall_speaker.asp. Scroll down to the town hall meeting for the ESRD PPS Proposed Rule and select the town hall speaker register URL link to complete the required registration.

FOR FURTHER INFORMATION CONTACT: Jean-Marie Moore or Brenda Hudson at 410-786-8974.

SUPPLEMENTARY INFORMATION:

I. Background

The Medicare Improvements for Patients and Providers Act of 2008 (MIPPA) was enacted on July 15, 2008. Section 153(b) of MIPPA amended section 1881(b) of the Social Security Act to require the implementation of an end-stage renal disease (ESRD) bundled payment system effective January 1, 2011 (herein referred to as the “ESRD PPS”).

The ESRD PPS proposed rule, which appears elsewhere in this Federal Register, would implement a case-mix adjusted bundled prospective payment system (PPS) for Medicare outpatient ESRD dialysis facilities beginning January 1, 2011, in compliance with section 153(b) of MIPPA. The proposed ESRD PPS would replace the current basic case-mix adjusted composite payment system and the methodologies for the reimbursement of separately billable outpatient ESRD services.

II. Meeting Format

The meeting will begin with a brief overview of the ESRD PPS proposed rule. The majority of the time allotted will be reserved for oral presentations from registered speakers.

Individuals who wish to make an oral presentation must not only register to attend, but must also register to speak at the town hall meeting. In general, speaker registration will be accepted on a first come, first served basis. However, in the event, the number of speaker requests exceed the allotted timeframe for the town hall meeting, we reserve the right to select those speakers that will offer the broadest array of topics and viewpoints.

The CMS meeting host will establish the sequencing order in which presentations will be delivered. All speakers will be working with a compact time limitation that will be enforced to permit as many presentations as possible. Registered speakers may not assign time to, or accept time from another speaker or attendee at the meeting. Speakers that choose to use handouts must bring 500 paper copies of any handout to the meeting.

III. Registration Instructions

The Division of Chronic Care Management in the Center for Medicare Management is coordinating the town hall meeting registration. While there is no registration fee, for security purposes, individuals are required to register to attend. We note that prospective speakers are required to register separately as an attendee and speaker as specified in the ADDRESSES section of this notice by the date specified in the DATES section of this notice.

Once seating capacity has been reached, individuals attempting to register will be notified that the meeting has reached capacity and given the option to listen to the proceedings by a toll-free phone line (as available slots permit).

Registrants will receive separate confirmations regarding acceptance as an attendee and as a speaker. Speaker confirmations will also indicate the time allocations for speaking (anticipate approximately 5 minutes). In the event that a registered speaker becomes unable to attend, we request that the individual notify CMS as soon as possible using the contact listed in the FOR FURTHER INFORMATION CONTACT section of this notice so that their time may be reallocated.

IV. Security, Building, and Parking Guidelines

This meeting is being held in a Federal government facility; therefore, in planning your arrival, we recommend allowing additional time to clear security. In order to gain access to the building and grounds, participants must have with them a government issued photo identification (for example, driver's license or passport), and a copy of their written meeting registration confirmation(s). In addition, participants must be listed on an approved security list before persons are permitted entrance. Persons without proper identification will be denied access.

Individuals who are not registered in advance will not be permitted to enter the facility and will be unable to attend the meeting. Registered participants may not enter the building earlier than 7 a.m., e.d.t. on October 23, 2009. However, we encourage individuals to arrive no later than 8:15 a.m., e.d.t. to allow sufficient time to go through the security checkpoints at the gate to the compound, and to the Central Building lobby.

Security measures will include inspection of vehicles, inside and out, at the entrance to the grounds. In addition, all persons entering the building must pass through a metal detector. All items brought to CMS, including personal items such as desktops, cell phones, and palm pilots, are subject to physical inspection.

CMS cannot assume responsibility for coordinating the receipt, transfer, transport, storage, set-up, safety, or timely arrival of any personal belongings or items used for demonstration or to support a presentation.

Individuals requiring sign language interpretation or other special accommodation must contact the Designated Federal Office specified in the FOR FURTHER INFORMATION CONTACT section of this notice by the date specified in the DATES section of this notice.

It is possible that requests made in advance of the public meeting may be denied because of unique safety, security or handling concerns.

Parking permits and instructions are issued upon arrival by guards at the Security Boulevard main entrance.

All visitors must be escorted in areas other than the lower level lobby, cafeteria, auditorium and first-floor lobby in the Central Building. All visitors are responsible for making their own travel arrangements for both arrival at and departure from the town hall meeting.

(Catalog of Federal Domestic Assistance Program No. 93.773, Medicare—Hospital Insurance; and Program No. 93.774, Medicare—Supplementary Medical Insurance Program)

Dated: September 3, 2009.
Charlene Frizzera,
Acting Administrator, Centers for Medicare & Medicaid Services.

[FR Doc. E9-22484 Filed 9-15-09; 4:15 pm]

BILLING CODE 4120-01-P